FEDERAL EMERGENCY MANAGEMENT AGENCY

[FEMA-3170-EM]

New York; Amendment No. 1 to Notice of an Emergency Declaration

AGENCY: Federal Emergency Management Agency (FEMA).

ACTION: Notice.

SUMMARY: This notice amends the notice of an emergency for the State of New York, (FEMA-3170-EM), dated December 31, 2001, and related determinations.

EFFECTIVE DATE: January 8, 2002.

FOR FURTHER INFORMATION CONTACT: Madge Dale, Readiness, Response and Recovery Directorate, Federal Emergency Management Agency, Washington, DC 20472, (202) 646-2705 or madge.dale@fema.gov.

SUPPLEMENTARY INFORMATION: Notice is hereby given that as authorized by the President in a letter dated December 31, 2001, FEMA is extending the time period for emergency protective measures under the Public Assistance program from 48 hours to 120 hours. Assistance under this emergency is authorized at 75 percent Federal funding for eligible costs.

(The following Catalog of Federal Domestic Assistance Numbers (CFDA) are to be used for reporting and drawing funds: 83.537, Community Disaster Loans; 83.538, Cora Brown Fund Program; 83.539, Crisis Counseling; 83.540, Disaster Legal Services Program; 83.541, Disaster Unemployment Assistance (DUA); 83.542, Fire Suppression Assistance; 83.543, Individual and Family Grant (IFG) Program; 83.544, Public Assistance Grants; 83.545, Disaster Housing Program; 83.548, Hazard Mitigation Grant Program)

Joe M. Allbaugh,
Director.

[FR Doc. 02-1317 Filed 1-17-02; 8:45 am]

BILLING CODE 6718-02-P